DEPARTMENT OF AGRICULTURE

Animal and Plant Health Inspection Service

[Docket No. APHIS-2006-0184]

Public Meeting; Veterinary Biologics

AGENCY: Animal and Plant Health Inspection Service, USDA.

ACTION: Advance notice of public meeting and request for suggested agenda topics.

SUMMARY: We are issuing this notice to inform producers and users of veterinary biological products, and other interested individuals, that we will be holding our 14th public meeting to discuss regulatory and policy issues related to the manufacture, distribution, and use of veterinary biological products. We are planning the meeting agenda and are requesting suggestions for topics of general interest to producers and other interested individuals.

DATES: The public meeting will be held Wednesday, March 28, and Thursday, March 29, 2007, from 8:30 a.m. to approximately 5 p.m. each day.

ADDRESSES: The public meeting will be held in the Scheman Building at the Iowa State Center, Iowa State University, Ames, IA.

FOR FURTHER INFORMATION CONTACT: For further information on agenda topics, contact Dr. Byron E. Rippke, Director, Policy, Evaluation, and Licensing, Center for Veterinary Biologics, Veterinary Services, APHIS, 510 South 17th Street, Suite 104, Ames, IA 50010-8197; phone (515) 232-5785, fax (515) 232-7120, or e-mail CVB@aphis.usda.gov. For registration information, contact Ms. Gera Ashton at the same address and fax number; phone (515) 232-5785 extension 127; or e-mail Gera.A.Ashton@aphis.usda.gov.

SUPPLEMENTARY INFORMATION: Since 1989, the Animal and Plant Health Inspection Service (APHIS) has held 13 public meetings in Ames, IA, on veterinary biologics. The meetings provide an opportunity for the exchange of information between APHIS representatives, producers and users of veterinary biological products, and other interested individuals. APHIS is in the process of planning the agenda for the 14th such meeting, which will be held March 28 and 29, 2007.

The agenda for the meeting is not yet complete. The theme for this year's meeting is influenza. Topics that have been suggested include: (1) Avian, swine, and equine influenza related topics; (2) pandemic influenza preparedness and related issues; (3) conditional licenses for canine influenza vaccines; (4) influenza diagnostics (rapid and otherwise); and (5) Veterinary Services and Center for Veterinary Biologics related issues. Before finalizing the agenda, APHIS is seeking suggestions for additional meeting topics from the interested public.

We would also like to invite interested individuals to use this meeting to present their ideas and suggestions concerning the licensing, manufacturing, testing, distribution, and regulation of products designed to diagnose, prevent, or treat animal diseases.

Please submit suggested meeting topics and proposed presentation titles to Dr. Byron E. Rippke (see FOR FURTHER INFORMATION CONTACT above) on or before December 18, 2006. For proposed presentations, please include the name(s) of the presenter(s) and the approximate amount of time that will be needed for each presentation.

After the agenda is finalized, APHIS will announce the agenda topics in the Federal Register.

Done in Washington, DC, this 22nd day of November 2006.
W. Ron DeHaven,
Administrator, Animal and Plant Health Inspection Service.

[FR Doc. E6-20391 Filed 11-30-06; 8:45 am]

BILLING CODE 3410-34-P